DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Director, Office of Trade Adjustment Assistance, at the address shown below, no later than October 16, 2017.

Interested persons are invited to submit written comments regarding the subject matter of the investigations to the Director, Office of Trade Adjustment Assistance, at the address shown below, not later than October 16, 2017.

The petitions filed in this case are available for inspection at the Office of the Director, Office of Trade Adjustment Assistance, Employment and Training Administration, U.S. Department of Labor, Room N-5428, 200 Constitution Avenue NW., Washington, DC 20210.

Signed at Washington, DC, this 25th day of September 2017.
Hope D. Kinglock,
Certifying Officer, Office of Trade Adjustment Assistance.

Appendix
[83 TAA petitions instituted between 8/19/17 and 9/22/17]
TA-W | Subject firm (petitioners) | Location | Date of institution | Date of petition
93084 | Armstrong Flooring Company (Union) | Jackson, TN | 08/21/17 | 08/18/17
93085 | Becton Dickson Medical-Pharmaceutical Systems (State/One-Stop) | Franklin Lakes, NJ | 08/21/17 | 08/08/17
93086 | Convergys (State/One-Stop) | Richardson, TX | 08/21/17 | 08/18/17
93087 | Hewlett Packard Enterprise (State/One-Stop) | Chicago, IL | 08/21/17 | 08/18/17
93088 | Human Technologies, Inc. (HTI) (State/One-Stop) | Bellwood, IL | 08/21/17 | 08/18/17
93089 | Huntington Foam LLC DBA Huntington Solutions (Workers) | Jeannette, PA | 08/21/17 | 08/21/17
93090 | Baxter Healthcare Corporation (State/One-Stop) | Englewood, CO | 08/22/17 | 08/21/17
93091 | International Business Machines (IBM) (State/One-Stop) | Smyrna, GA | 08/22/17 | 08/22/17
93092 | St. Vincent Health (State/One-Stop) | Indianapolis, IN | 08/22/17 | 08/18/17
93093 | IBM Systems & Technology (Workers) | Austin, TX | 08/24/17 | 08/16/17
93094 | Health Care Service Corporation (Workers) | Marion, IL | 08/24/17 | 08/23/17
93095 | Vesuvius USA (Company) | Tyler, TX | 08/25/17 | 08/24/17
93096 | Asurion/iQor (State/One-Stop) | Klamath Falls, OR | 08/28/17 | 08/25/17
93097 | Avery Dennison (Company) | Greensboro, NC | 08/28/17 | 08/22/17
93098 | Benchmark Electronics (Company) | Nashua, NH | 08/28/17 | 08/28/17
93099 | GE MDS, LLC (State/One-Stop) | Rochester, NY | 08/29/17 | 08/29/17
93100 | Honeywell dba Mercury Instruments (Workers) | Melbourne, FL | 08/29/17 | 08/28/17
93101 | ITT Electrofilm (State/One-Stop) | Valencia, CA | 08/29/17 | 08/28/17
93102 | Sharp Electronics Corporation of America (State/One-Stop) | Camas, WA | 08/29/17 | 08/17/17
93103 | Siemens (State/One-Stop) | Hutchinson, KS | 08/29/17 | 08/29/17
93104 | GM Orion Assembly (Union) | Lake Orion, MI | 08/30/17 | 08/29/17
93105 | M+W US Inc. (State/One-Stop) | Plano, TX | 08/30/17 | 08/29/17
93106 | New Castle Stainless Plate, LLC (Company) | New Castle, IN | 08/30/17 | 08/14/17
93107 | Quality Mold dba Versitech (Workers) | Greenwich, OH | 08/30/17 | 08/29/17
93108 | Interplex Automation (State/One-Stop) | Attleboro, MA | 08/31/17 | 08/30/17
93109 | Best Buy (State/One-Stop) | Richfield, MN | 09/01/17 | 08/31/17
93110 | Encap Technologies Inc. (Company) | Palatine, IL | 09/01/17 | 08/31/17
93111 | Corpak Medsystems, Inc. (State/One-Stop) | Buffalo Grove, IL | 09/05/17 | 09/01/17
93112 | Kongsberg Actuation, II aka Kongsberg Automotive (Company) | Easley, SC | 09/05/17 | 09/01/17
93113 | REMMCO Inc. (State/One-Stop) | North East, PA | 09/05/17 | 09/01/17
93114 | Steven Erich Hubbard Rvoc Living Trust (Company) | McMinnville, TN | 09/05/17 | 09/04/17
93115 | Great-West Financial (State/One-Stop) | Greenwood Village, CO | 09/06/17 | 08/21/17
93116 | DeVry Education Group (State/One-Stop) | Downers Grove, IL | 09/06/17 | 09/05/17
93117 | CoreLogic Solutions, LLC (State/One-Stop) | Irvine, CA | 09/07/17 | 09/06/17
93118 | GE Capital (State/One-Stop) | Norwalk, CT | 09/07/17 | 08/24/17
93119 | Lincare Inc. (Workers) | Sharon, PA | 09/07/17 | 09/06/17
93120 | Resolute Forest Products US, Inc. (Union) | Calhoun, TN | 09/07/17 | 09/06/17
93121 | Suniva, Inc. (State/One-Stop) | Norcross, GA | 09/07/17 | 09/06/17
93122 | Arconic Massena Operations (State/One-Stop) | Massena, NY | 09/08/17 | 08/29/17
93123 | Boehringer Ingelheim (State/One-Stop) | Ridgefield, CT | 09/08/17 | 09/07/17
93124 | Darian Group Incorporated (State/One-Stop) | New York, NY | 09/08/17 | 09/05/17
93125 | Railtech Composites (State/One-Stop) | Plattsburgh, NY | 09/08/17 | 09/07/17
93126 | Arvato Digital Services (Workers) | Weaverville, NC | 09/11/17 | 09/07/17
93127 | Flowserve Corporation (State/One-Stop) | Boothwyn, PA | 09/11/17 | 09/08/17
93128 | Motorola (Company) | Chicago, IL | 09/11/17 | 09/10/17
93129 | Porter's Group Sumter LLC (State/One-Stop) | Sumter, SC | 09/11/17 | 09/08/17
93130 | Siemens Inc. and Siemens Government Technologies (State/One-Stop) | Olean and Wellsville, NY | 09/11/17 | 09/08/17
93131 | Lake Catherine Footwear (State/One-Stop) | Hot Springs, AR | 09/12/17 | 09/11/17
93132 | American Made LLC dba US Liner Company (Workers) | Harmony, PA | 09/12/17 | 09/08/17
93133 | General Cable Co. (Workers) | Highland Heights, KY | 09/13/17 | 09/06/17
93134 | HERE North America LLC (Workers) | Fargo, ND | 09/13/17 | 09/12/17
93135 | Panasonic Eco Solutions Solar America (State/One-Stop) | Salem, OR | 09/13/17 | 09/12/17
93136 | Sykes (State/One-Stop) | Eugene, OR | 09/13/17 | 09/12/17
93137 | Experian Health (State/One-Stop) | Springfield, IL | 09/14/17 | 09/13/17
93138 | Harman Professional (Company) | Elkhart, IN | 09/14/17 | 09/13/17
93139 | CDM Smith (State/One-Stop) | Boston, MA | 09/14/17 | 09/13/17
93140 | U.S. Steel Tubular Products, Inc. (Lone Star Tubular Operations) (State/One-Stop) | Lone Star, TX | 09/14/17 | 09/13/17
93141 | Lincare Inc. (State/One-Stop) | Spokane, WA | 09/14/17 | 09/13/17
93142 | GM Nameplate Inc. (State/One-Stop) | Seattle, WA | 09/14/17 | 09/13/17
93143 | GVL Polymers, Inc. (State/One-Stop) | Heston, KS | 09/14/17 | 09/14/17
93144 | HSBC Technology and Services (State/One-Stop) | Buffalo, NY | 09/15/17 | 09/15/17
93145 | Nelson Global (State/One-Stop) | Clinton, TN | 09/15/17 | 09/14/17
93146 | Southworth Paper (State/One-Stop) | Turner Falls, MA | 09/15/17 | 09/14/17
93147 | APEM, Inc. (State/One-Stop) | Haverhill, MA | 09/18/17 | 09/18/17
93148 | H.B. Fuller (State/One-Stop) | Vadnais Heights, MN | 09/18/17 | 09/15/17
93149 | Health Care Service Corporation (BCBSMT) (Workers) | Helena, MT | 09/18/17 | 09/15/17
93150 | Philips Healthcare (Workers) | Highland Heights, OH | 09/18/17 | 09/15/17
93151 | Thomson Reuters (State/One-Stop) | Boston, MA | 09/18/17 | 09/18/17
93152 | ArcelorMittal USA (State/One-Stop) | Riverdale, IL | 09/19/17 | 09/19/17
93153 | IQOR (Jabil) (Workers) | Saint Petersburg, FL | 09/19/17 | 09/18/17
93154 | US Steel (State/One-Stop) | Granite City, IL | 09/19/17 | 09/19/17
93155 | California Steel (State/One-Stop) | Fontana, CA | 09/20/17 | 09/19/17
93156 | Charter Communications (State/One-Stop) | Palm Desert, CA | 09/20/17 | 09/11/17
93157 | Nucor Corporation (State/One-Stop) | Blytheville, AR | 09/20/17 | 09/20/17
93158 | Valpak (Workers) | St. Petersburg, FL | 09/20/17 | 09/19/17
93159 | Benny's Inc. (Workers) | Esmond, RI | 09/21/17 | 09/20/17
93160 | EVRAZ—Rolling Facility (State/One-Stop) | Portland, OR | 09/21/17 | 09/20/17
93161 | ITT Aerospace Controls (Workers) | Perris, CA | 09/21/17 | 09/20/17
93162 | Lumentum LLC. (State/One-Stop) | Bloomfield, CT | 09/21/17 | 09/14/17
93163 | Johnson Controls International Plc. (Workers) | Milwaukee, WI | 09/22/17 | 09/21/17
93164 | LuLuLemon Lab (Workers) | New York, NY | 09/22/17 | 09/15/17
93165 | Rideout Health (State/One-Stop) | Marysville, CA | 09/22/17 | 09/14/17
93166 | Tyco (State/One-Stop) | Boca Raton, FL | 09/22/17 | 09/21/17

[FR Doc. 2017-21583 Filed 10-5-17; 8:45 am]

BILLING CODE 4510-FN-P